DEPARTMENT OF HOUSING AND URBAN DEVELOPMENT

[Docket No. FR-6469-C-02]

National Standards for the Physical Inspection of Real Estate, Carbon Monoxide Detection Requirements, and Smoke Alarm Requirements: Implementation Guidance and Inspection Standards for the Housing Opportunities for Persons With AIDS Program; Correction

AGENCY: Office of the Assistant Secretary for Community Planning and Development, U.S. Department of Housing and Urban Development (HUD).

ACTION: Notice; correction.

SUMMARY: The Department of the Housing and Urban Development (HUD) is correcting a notice entitled “National Standards for the Physical Inspection of Real Estate, Carbon Monoxide Detection Requirements, and Smoke Alarm Requirements: Implementation Guidance and Inspection Standards for the Housing Opportunities for Persons With AIDS Program” that published in the Federal Register on August 5, 2025, to reflect accurate compliance dates.

FOR FURTHER INFORMATION CONTACT: Amy Shivickas, Deputy Director, Room 7248, Department of Housing and Urban Development, 451 Seventh Street SW, Washington, DC 20410-7000; telephone (202) 402-2420. (This is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION:

Correction

In the Federal Register of August 5, 2025, in FR Doc 2025-1474, on page 37547, in the first and second column, revise the first paragraph of section IV to read as follows:

The regulatory changes made under the NSPIRE rule took effect on October 1, 2023. However, as provided by HUD's notice “Economic Growth Regulatory Relief and Consumer Protection Act: Implementation of National Standards for the Physical Inspection of Real Estate (NSPIRE); Extension of Compliance Date for HCV, PBV and Section 8 Moderate Rehab and CPD Programs” (89 FR 55645), grantees may continue using HOPWA housing quality standards, as previously defined in 24 CFR 574.310 until October 1, 2025. Under this notice, grantees are encouraged to implement HOPWA NSPIRE standards as soon as feasible but must comply with HOPWA NSPIRE standards no later than February 2, 2026. If a grantee implements the NSPIRE rule and the HOPWA NSPIRE standards before February 2, 2026, the grantee must document the chosen compliance date in program records.

Amanda Wahlig,
Acting Associate General Counsel, Office of Legislation and Regulations.

[FR Doc. 2025-15547 Filed 8-14-25; 8:45 am]

BILLING CODE 4210-67-P